DEPARTMENT OF ENERGY

Federal Energy Regulatory Commission

[Docket Nos. RP01-503-002 and RP01-503-003]

Natural Gas Pipeline Company of America; Notice of Informal Settlement Conference

October 10, 2003.

Take notice that an informal settlement conference will be held in the above-referenced proceedings immediately after the prehearing conference at 10 a.m. on October 16, 2003, at the Federal Energy Regulatory Commission, 888 First Street, NE., Washington, DC 20426, for the purpose of exploring the possible settlement of the above-referenced dockets.

Any party, as defined by 18 CFR 385.102(c), or any participant as defined by 18 CFR 385.102(b), is invited to attend. Persons wishing to become a party must move to intervene and receive intervenor status pursuant to the Commission's regulations (18 CFR 385.214).

For additional information, please contact Marc G. Denkinger (202) 502-8662 or Arnold H. Meltz (202) 502-8649.

Magalie R. Salas,
Secretary.

[FR Doc. E3-00098 Filed 10-21-03; 8:45 am]

BILLING CODE 6717-01-P